DEPARTMENT OF ENERGY

Federal Energy Regulatory Commission

Notice of Commissioner and Staff Attendance at the National Association of Regulatory Utility Commissioners Summer Committee Meetings

The Federal Energy Regulatory Commission (Commission) hereby gives notice that members of the Commission and/or Commission staff may attend the 2016 National Association of Regulatory Utility Commissioners Summer Committee Meetings, including the following:

Joint meeting with FERC, Part I: Are we building what we need?

July 27, 2016, 9:00 a.m.-10:30 a.m. (CDT)

The above-referenced meeting will be held at: Omni Nashville Hotel, 250 Fifth Avenue South, Nashville, TN 37203.

Further information may be found at http://naruc.org/summermeetings/.

The discussions at the meeting described above may address matters at issue in the following proceedings:

ISO New England Inc.—Docket Nos. RT04-2 & ER09-1532

Midwest Independent Transmission System Operator, Inc.—Docket No. ER11-1844

Northern Indiana Public Service Company v. Midcontinent Independent System Operator, Inc. and PJM Interconnection, L.L.C.—Docket No. EL13-88

New York Independent System Operator, Inc.—Docket No. ER13-102

PJM Interconnection, L.L.C.—Docket No. ER13-1924

PJM Interconnection, L.L.C.—Docket No. ER13-1942

PJM Interconnection, L.L.C.—Docket No. ER13-1944

PJM Interconnection, L.L.C.—Docket No. ER13-1945

PJM Interconnection, L.L.C.—Docket No. ER14-972

PJM Interconnection, L.L.C.—Docket No. ER14-1485

Xcel Energy Southwest Transmission Co., LLC—Docket No. ER14-2751

Consolidate Edison Company of New York, Inc. v. PJM Interconnection, L.L.C.—Docket No. EL15-18

Linden VFT, LLC v. PJM Interconnection, L.L.C.—Docket No. EL15-67

TranSource, LLC v. PJM Interconnection, L.L.C.—Docket No. EL15-79

Delaware Public Service Commission and Maryland Public Service Commission v. PJM and Certain Transmission Owners Designated Under Attachment A to the Consolidated Transmission Owners Agreement—Docket No. EL15-95

San Diego Gas & Electric Company—Docket No. EL15-103

New York Transco, LLC—Docket No. ER15-572

PJM Interconnection, L.L.C.—Docket No. ER15-1344

PJM Interconnection, L.L.C.—Docket No. ER15-1387

New York Independent System Operator, Inc.—Docket No. ER15-2059

NextEra Energy Transmission West, LLC—Docket No. ER15-2239

PJM Interconnection, L.L.C.—Docket No. ER15-2562

PJM Interconnection, L.L.C.—Docket No. ER15-2563

Southwestern Public Service Co. and Xcel Energy Southwest Transmission Co., LLC—Docket No. EC16-64

Pacific Gas and Electric Company—Docket No. EL16-47

DesertLink, LLC—Docket No. EL16-68

Boundless Energy NE, LLC v. New York Independent System Operator, Inc.—Docket No. EL16-84

New York Independent System Operator, Inc.—Docket No. ER16-120

PJM Interconnection, L.L.C.—Docket No. ER16-453

PJM Interconnection, L.L.C.—Docket No. ER16-736

New York Independent System Operator, Inc.—Docket No. ER16-835

New York Independent System Operator, Inc.—Docket No. ER16-966

PJM Interconnection, L.L.C.—Docket No. ER16-1232

PJM Interconnection, L.L.C.—Docket No. ER16-1335

PJM Interconnection, L.L.C.—Docket No. ER16-1499

Midcontinent Independent System Operator, Inc.—Docket No. ER16-1534

Citizens Energy Corporation—Docket No. EL16-102

New York Independent System Operator, Inc.—Docket No. ER16-1968

For more information, contact Sandra Waldstein, Office of External Affairs, Federal Energy Regulatory Commission at (202) 502-8092 or sandra.waldstein@ferc.gov.

Dated: July 26, 2016.
Kimberly D. Bose,
Secretary.

[FR Doc. 2016-18581 Filed 8-4-16; 8:45 am]

BILLING CODE 6717-01-P